DEPARTMENT OF THE INTERIOR

National Park Service

[NPS-WASO-NAGPRA-NPS0024976; PPWOCRADN0-PCU00RP14.R50000]

Notice of Inventory Completion: U.S. Department of the Interior, Bureau of Land Management, Alaska State Office, Anchorage, AK

AGENCY: National Park Service, Interior.

ACTION: Notice.

SUMMARY: The U.S. Department of the Interior, Bureau of Land Management (BLM), Alaska State Office, has completed an inventory of human remains and associated funerary objects, in consultation with the appropriate Indian Tribes, and with the cooperation of the University of Alaska Museum of the North, and has determined that there is a cultural affiliation between the human remains and associated funerary objects and present-day Indian Tribes. Lineal descendants or representatives of any Indian Tribe not identified in this notice that wish to request transfer of control of these human remains and associated funerary objects should submit a written request to the BLM, Alaska State Office. If no additional requestors come forward, transfer of control of the human remains and associated funerary objects to the Indian Tribes stated in this notice may proceed.

DATES: Lineal descendants or representatives of any Indian Tribe not identified in this notice that wish to request transfer of control of these human remains and associated funerary objects should submit a written request with information in support of the request to the BLM, Alaska State Office, at the address in this notice by March 26, 2018.

ADDRESSES: Dr. Robert King, BLM-Alaska State NAGPRA Coordinator, 222 West 7th Avenue, Box 13, Anchorage, AK 99513-7599, telephone (907) 271-5510, email r2king@blm.gov.

SUPPLEMENTARY INFORMATION: Notice is here given in accordance with the Native American Graves Protection and Repatriation Act (NAGPRA), 25 U.S.C. 3003, of the completion of an inventory of human remains and associated funerary objects under the control of the BLM and housed at the University of Alaska Museum of the North. The human remains and associated funerary objects were removed from the Sikoruk site (XHP-00002) in the North Slope Borough, AK, on land administered by the BLM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the BLM, Alaska State Office, and the University of Alaska Museum of the North professional staff in consultation with representatives of Native Village of Barrow Inupiat Traditional Government, Native Village of Nuiqsut (aka Nooiksut), and Village of Anaktuvuk Pass.

History and Description of the Remains

In 1971, human remains representing, at minimum, 1 individual were removed from the Sikoruk site (XHP-00002) at Tukuto Lake in the North Slope Borough, AK, by Dr. Edwin S. Hall. The lands surrounding Tukuto Lake are within the National Petroleum Reserve-Alaska and are administrated by the BLM. In 2016, the human remains were transferred from Ohio History Connection in Columbus, OH, where they had been held since 1971, to the University of Alaska Museum of the North in Fairbanks, AK, which serves as the primary repository for the BLM, Alaska State Office. The human remains are a 75-percent complete skeleton of a young adult female, 20-34 years old, and their condition suggests they are a few hundred years old. No known individual was identified. The two associated funerary objects are one left distal tarsal and one left foot phalange of a medium sized true seal (Family Phocidae).

Determinations Made by the Bureau of Land Management, Alaska State Office

Officials of the BLM, Alaska State Office, have determined that:

• Pursuant to 25 U.S.C. 3001(9), the human remains described in this notice represent the physical remains of one individual of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and Native Village of Barrow Inupiat Traditional Government, Native Village of Nuiqsut (aka Nooiksut), and Village of Anaktuvuk Pass.

Additional Requestors and Disposition

Lineal descendants or representatives of any Indian Tribe or Native Hawaiian organization not identified in this notice that wish to request transfer of control of these human remains and associated funerary objects should submit a written request with information in support of the request to Dr. Robert King, BLM-Alaska State NAGPRA Coordinator, 222 West 7th Avenue, Box 13, Anchorage, AK 99513-7599, telephone (907) 271-5510, email r2king@blm.gov, by March 26, 2018. After that date, if no additional requestors have come forward, transfer of control of the human remains and associated funerary objects to Native Village of Barrow Inupiat Traditional Government, Native Village of Nuiqsut (aka Nooiksut), and Village of Anaktuvuk Pass may proceed.

The BLM, Alaska State Office, is responsible for notifying tribal representatives of Native Village of Barrow Inupiat Traditional Government, Native Village of Nuiqsut (aka Nooiksut), and Village of Anaktuvuk Pass that this notice has been published.

Dated: February 2, 2018.
Melanie O'Brien,
Manager, National NAGPRA Program.

[FR Doc. 2018-03629 Filed 2-21-18; 8:45 am]

BILLING CODE 4312-52-P